DEPARTMENT OF TRANSPORTATION

Pipeline and Hazardous Materials Safety Administration

[Docket Number PHMSA-2007-28119; Notice No. 07-9]

Proposed Recommended Practices for Bulk Loading and Unloading of Hazardous Materials in Transportation

AGENCY: Pipeline and Hazardous Materials Safety Administration (PHMSA).

ACTION: Notice; request for comments; extension of comment period.

SUMMARY: PHMSA is extending until March 14, 2008, the period for interested persons to submit comments on the agency's January 4, 2008 notice concerning proposed recommended practices for bulk loading and unloading of hazardous materials. The January 4, 2008 notice summarizes incident data related to bulk loading and unloading operations; discusses recommendations issued by the National Transportation Safety Board and the Chemical Safety and Hazard Investigation Board; provides an overview of current Federal regulations applicable to bulk loading and unloading operations; summarizes the results of a public workshop PHMSA hosted last year; and sets forth proposed recommended practices for bulk loading and unloading operations. Based on information and comments received, we plan to consider strategies for enhancing the safety of bulk loading and unloading operations, including whether additional regulatory requirements may be necessary.

DATES: Submit comments by March 14, 2008. To the extent possible, we will consider comments received after this date and consider strategies including additional regulatory requirements, as necessary.

ADDRESSES: You may submit comments identified by the docket number PHMSA-2007-28119; Notice No. 07-9 by any of the following methods:

• Federal eRulemaking Portal: http://www.regulations.gov. Follow the instructions for submitting comments.

• Web Site: http://dms.dot.gov. Follow the instructions for submitting comments on the DOT electronic docket site.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov or http://dms.dot.gov (until December 31, 2007) or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

FOR FURTHER INFORMATION CONTACT: Rick Boyle, Office of Hazardous Materials Technology, (202) 366-4545 or Kurt Eichenlaub, Office of Hazardous Materials Standards, (202) 366-8553, Pipeline and Hazardous Materials Safety Administration.

SUPPLEMENTARY INFORMATION: On January 4, 2008, the Pipeline and Hazardous Materials Safety Administration (PHMSA, we) published a notice (No. 07-9) under Docket PHMSA-2007-28119 soliciting information and comments on proposed recommended practices for loading and unloading operations involving bulk packagings used to transport hazardous materials.

In the January 4, 2008 notice, we summarized incident data related to bulk loading and unloading operations; discussed recommendations issued by the National Transportation Safety Board and the Chemical Safety and Hazard Investigation Board; provided an overview of current Federal regulations applicable to bulk loading and unloading operations; summarized the results of a public workshop we hosted last year; and set forth proposed recommended practices for bulk loading and unloading operations. The comment period for the notice was to end on February 8, 2008.

The American Trucking Association (ATA) requests an additional 30 days in which to submit comments to the notice. ATA states additional time will allow its members to more fully understand and comment on the potential impact of the proposed recommended practices to the trucking industry. We agree that an extension of 30 days is in the public interest and, accordingly, we are extending the closing date of the comment period until March 14, 2008.

Issued in Washington, DC on February 5, 2008.
Robert Richard,
Deputy Associate Administrator for Hazardous Materials Safety.

[FR Doc. E8-2364 Filed 2-7-08; 8:45 am]

BILLING CODE 4910-60-P